DEPARTMENT OF ENERGY

Federal Energy Regulatory Commission

Combined Notice of Filings #1

Take notice that the Commission received the following electric rate filings:

Docket Numbers: ER14-221-000.

Applicants: Covanta Haverhill Associates, LP.

Description: Refund Report to be effective N/A.

Filed Date: 2/26/14.

Accession Number: 20140226-5121.

Comments Due: 5 p.m. ET 3/19/14.

Docket Numbers: ER14-416-001.

Applicants: Southwest Power Pool, Inc.

Description: Compliance to Integrated Marketplace Third Supplemental Filing to be effective 3/1/2014.

Filed Date: 2/25/14.

Accession Number: 20140225-5108.

Comments Due: 5 p.m. ET 3/18/14.

Docket Numbers: ER14-678-001.

Applicants: Niagara Wind Power, LLC.

Description: Amendment to December 18, 2013 Market-Based Tariff Filing to be effective 12/19/2013.

Filed Date: 2/26/14.

Accession Number: 20140226-5100.

Comments Due: 5 p.m. ET 3/19/14.

Docket Numbers: ER14-680-001.

Applicants: Stetson Wind II, LLC.

Description: Amendment to December 18, 2013 Market-Based Tariff Filing to be effective 12/19/2013.

Filed Date: 2/26/14.

Accession Number: 20140226-5095.

Comments Due: 5 p.m. ET 3/19/14.

Docket Numbers: ER14-682-001.

Applicants: Vermont Wind, LLC.

Description: Amendment to December 18, 2013 Market-Based Tariff Filing to be effective 12/19/2013.

Filed Date: 2/26/14.

Accession Number: 20140226-5093.

Comments Due: 5 p.m. ET 3/19/14.

Docket Numbers: ER14-685-001.

Applicants: Evergreen Wind Power III, LLC.

Description: Amendment to December 18, 2013 Market-Based Tariff Filing to be effective 12/19/2013.

Filed Date: 2/26/14.

Accession Number: 20140226-5090.

Comments Due: 5 p.m. ET 3/19/14.

Docket Numbers: ER14-686-001.

Applicants: Evergreen Wind Power, LLC.

Description: Amendment to December 18, 2013 Market-Based Tariff Filing to be effective 12/19/2013.

Filed Date: 2/26/14.

Accession Number: 20140226-5094.

Comments Due: 5 p.m. ET 3/19/14.

Docket Numbers: ER14-688-001.

Applicants: Canandaigua Power Partners II, LLC.

Description: Amendment to December 18, 2013 Market-Based Tariff Filing to be effective 12/19/2013.

Filed Date: 2/26/14.

Accession Number: 20140226-5088.

Comments Due: 5 p.m. ET 3/19/14.

Docket Numbers: ER14-695-002.

Applicants: Entergy Services, Inc.

Description: EES LBA Agreement Refile—Axiall 2-25-2014 to be effective 12/31/9998.

Filed Date: 2/25/14.

Accession Number: 20140225-5139.

Comments Due: 5 p.m. ET 3/18/14.

Docket Numbers: ER14-699-002.

Applicants: Entergy Services, Inc.

Description: EES LBA Agreement Refile—ETEC 2-25-2014 to be effective 12/31/9998.

Filed Date: 2/25/14.

Accession Number: 20140225-5140.

Comments Due: 5 p.m. ET 3/18/14.

Docket Numbers: ER14-703-002.

Applicants: Entergy Services, Inc.

Description: EES LBA Agreement Refile—Tenaska 2-25-2014 to be effective 12/31/9998.

Filed Date: 2/25/14.

Accession Number: 20140225-5138.

Comments Due: 5 p.m. ET 3/18/14.

Docket Numbers: ER14-721-001.

Applicants: Midcontinent Independent System Operator, Inc.

Description: 2014-02-25 Clean-Up Compliance to be effective 12/20/2013.

Filed Date: 2/25/14.

Accession Number: 20140225-5113.

Comments Due: 5 p.m. ET 3/18/14.

Docket Numbers: ER14-1368-000.

Applicants: The Narragansett Electric Company.

Description: Notice of Cancellation of Interconnection Agreement with Pontiac Energy Corp. to be effective 4/27/2014.

Filed Date: 2/25/14.

Accession Number: 20140225-5111.

Comments Due: 5 p.m. ET 3/18/14.

Docket Numbers: ER14-1369-000.

Applicants: Southwest Power Pool, Inc.

Description: 1765R9 KCP&L-GMO NITSA NOA to be effective 2/1/2014.

Filed Date: 2/26/14.

Accession Number: 20140226-5038.

Comments Due: 5 p.m. ET 3/19/14.

Docket Numbers: ER14-1370-000.

Applicants: Southwest Power Pool, Inc.

Description: 1977R4 Nemaha-Marshall Electric Cooperative NITSA NOA to be effective 2/1/2014.

Filed Date: 2/26/14.

Accession Number: 20140226-5052.

Comments Due: 5 p.m. ET 3/19/14.

Docket Numbers: ER14-1371-000.

Applicants: Wabash Valley Power Association, Inc.

Description: Wabash Valley Power—Amendments to Rate Schedule to be effective 4/26/2014.

Filed Date: 2/26/14.

Accession Number: 20140226-5062.

Comments Due: 5 p.m. ET 3/19/14.

Docket Numbers: ER14-1372-000.

Applicants: Arizona Public Service Company.

Description: Cancellation of Amendment 1 to Rate Schedule No. 23 of Arizona Public Service Company.

Filed Date: 2/26/14.

Accession Number: 20140226-5066.

Comments Due: 5 p.m. ET 3/19/14.

Docket Numbers: ER14-1373-000.

Applicants: Energy Utility Group, LLC.

Description: EUG MBR Application to be effective 3/31/2014.

Filed Date: 2/26/14.

Accession Number: 20140226-5081.

Comments Due: 5 p.m. ET 3/19/14.

Docket Numbers: ER14-1374-000.

Applicants: Southwest Power Pool, Inc.

Description: 607R22 Westar Energy, Inc. NITSA NOA to be effective 2/1/2014.

Filed Date: 2/26/14.

Accession Number: 20140226-5082.

Comments Due: 5 p.m. ET 3/19/14.

Take notice that the Commission received the following electric securities filings:

Docket Numbers: ES14-26-000.

Applicants: ITC Great Plains, LLC.

Description: Supplement to January 31, 2014 Application pursuant to Section 204 of the Federal Power Act of ITC Great Plains, LLC for authorization to issue debt securities.

Filed Date: 2/24/14.

Accession Number: 20140224-5088.

Comments Due: 5 p.m. ET 3/17/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 26, 2014.
Nathaniel J. Davis, Sr.,
Deputy Secretary.

[FR Doc. 2014-04897 Filed 3-4-14; 8:45 am]

BILLING CODE 6717-01-P